NUCLEAR REGULATORY COMMISSION

[Docket Nos. 50-387 and 50-388]

PP&L, Inc. Allegheny Electric Cooperative, Inc. (Susquehanna Steam Electric Station, Units 1 and 2); Order Approving Transfer of Licenses and Conforming Amendments

I

PP&L, Inc.,¹ and Allegheny Electric Cooperative, Inc., are the joint owners of the Susquehanna Steam Electric Station, Units 1 and 2 (Susquehanna SES), located in Luzerne, Pennsylvania. They hold Facility Operating Licenses Nos. NPF-14 and NPF-22 issued by the U.S. Nuclear Regulatory Commission (NRC or Commission) on July 17, 1982, and March 23, 1984, respectively, pursuant to Part 50 of Title 10 of the Code of Federal Regulations (10 CFR Part 50). Under these licenses, PP&L, Inc. (currently owner of 90 percent of each Susquehanna SES unit) is authorized to possess Susquehanna SES (along with Allegheny Electric Cooperative, Inc., owner of the remaining 10 percent) and to use and operate Susquehanna SES.

¹ By letter dated March 24, 2000, PP&L, Inc., informed the Commission that effective February 14, 2000, PP&L, Inc., changed its name to “PPL Electric Utilities Corporation.” PP&L, Inc., also informed the Commission of name changes for its parent and an affiliate. No application for license amendments to reflect the name change of PP&L, Inc., was submitted because, according to the licensee, it believed the amount of time for processing such an application would cause it to be approved following a decision on the license transfers and conforming amendments which are the subject of this Order. Notwithstanding the above name change of the PP&L, Inc., entity, since the licenses for the Susquehanna Steam Electric Station, Units 1 and 2, have not been amended to reflect PP&L, Inc.'s new name, PPL Electric Utilities Corporation, references in this Order to this particular licensee will use both its former and current names interchangeably as appropriate in the given context.

II

By an application dated December 15, 1999, which was supplemented by submittals dated February 7, March 24, April 28, May 4, and May 30, 2000 (collectively referred to as the application herein), PP&L, Inc., requested approval of the proposed transfer of its rights under the operating licenses for Susquehanna SES to a new, affiliated nuclear generating company, PPL Susquehanna, LLC (PPL Susquehanna). PP&L, Inc., also requested approval of conforming amendments to reflect the transfer.

According to the application, PPL Susquehanna would become the owner of PP&L, Inc.”s ownership interest in both units following approval of the proposed license transfers and assume operational responsibility. No physical changes or change in the day-to-day management and operations of Susquehanna SES are proposed in the application. The proposed transfers do not involve any change with respect to the non-operating ownership interest in Susquehanna SES held by Allegheny Electric Cooperative, Inc.

Approval of the transfers and conforming license amendments was requested pursuant to 10 CFR 50.80 and 50.90. Notice of the request for approval and an opportunity for a hearing was published in the Federal Register on March 3, 2000 (65 FR 11611). No hearing requests or written comments were filed.

Pursuant to 10 CFR 50.80, no license, or any right thereunder, shall be transferred, directly or indirectly, through transfer of control of the license, unless the Commission shall give its consent in writing. Upon review of the information submitted in the application and other information before the Commission, the NRC staff has determined that PPL Susquehanna is qualified to hold the licenses for Susquehanna SES to the same extent the licenses are now held by PP&L, Inc., and that the transfer of the licenses, as previously described, is otherwise consistent with applicable provisions of law, regulations, and orders issued by the Commission, subject to the conditions described herein. The NRC staff has further found that the application for the proposed license amendments complies with the standards and requirements of the Atomic Energy Act of 1954, as amended (the Act), and the Commission's rules and regulations set forth in 10 CFR Chapter I; the facility will operate in conformity with the application, the provisions of the Act, and the rules and regulations of the Commission; there is reasonable assurance that the activities authorized by the proposed license amendments can be conducted without endangering the health and safety of the public and that such activities will be conducted in compliance with the Commission's regulations; the issuance of the proposed license amendments will not be inimical to the common defense and security or to the health and safety of the public; and the issuance of the proposed license amendments will be in accordance with 10 CFR Part 51 of the Commission's regulations, and all applicable requirements have been satisfied. The foregoing findings are supported by a Safety Evaluation dated June 6, 2000.

III

Accordingly, pursuant to Sections 161b, 161i, and 184 of the Atomic Energy Act of 1954, as amended, 42 U.S.C. §§ 2201(b), 2201(i), and 2234; and 10 CFR 50.80, it is hereby ordered that the license transfers referenced above are approved, subject to the following conditions:

1. For purposes of ensuring public health and safety, PPL Susquehanna shall provide decommissioning funding assurance, to be held in decommissioning trust(s) for Susquehanna SES upon transfer of the respective licenses to PPL Susquehanna, in the amount specified in PP&L, Inc.'s March 29, 1999, “Decommissioning Report of Financial Assurance” as Owner's Decommissioning Fund Totals at December 31, 1998, plus any additional funds added to the accounts since the filing of that report, on the date of transfer. In addition, PPL Susquehanna shall ensure that its contractual arrangements with PPL EnergyPlus, LLC, and the contractual arrangements of PPL EnergyPlus, LLC with PPL Electric Utilities Corporation (PP&L, Inc.) to obtain necessary decommissioning funds for Susquehanna SES through a non-bypassable charge will be maintained until the decommissioning trusts are fully funded, or shall ensure that other mechanisms that provide equivalent assurance of decommissioning funding in accordance with the Commission's regulations are maintained.

2. The decommissioning trust agreements for Susquehanna SES, Units 1 and 2, at the time the license transfers are effected, are subject to the following:

(a) The trust agreements must be in a form acceptable to the NRC.

(b) With respect to the decommissioning trust funds, investments in the securities or other obligations of PPL Corporation or its affiliates, successors, or assigns shall be prohibited. Except for investments tied to market indexes or other non-nuclear-sector mutual funds, investments in any entity owning one or more nuclear power plants are prohibited.

(c) The decommissioning trust agreements for Susquehanna SES, Units 1 and 2, must provide that no disbursements or payments from the trusts shall be made by the trustee unless the trustee has first given the NRC 30-days prior written notice of payment. The decommissioning trust agreements shall further contain a provision that no disbursements or payments from the trusts shall be made if the trustee receives prior written notice of objection from the Director, Office of Nuclear Reactor Regulation.

(d) The decommissioning trust agreements must provide that the agreements cannot be amended in any material respect without 30-days prior written notification to the Director, Office of Nuclear Reactor Regulation.

(e) The appropriate section of the decommissioning trust agreements shall state that the trustee, investment advisor, or anyone else directing the investments made in the trusts shall adhere to a “prudent investor” standard, as specified in 18 CFR 35.32(a)(3) of the Federal Energy Regulatory Commission's regulations.

3. PPL Susquehanna shall not take any action that would cause PPL Corporation or any other direct or indirect parent of PPL Susquehanna to void, cancel, or diminish any applicable commitment to fund an extended plant shutdown as represented in the application.

4. Before the completion of the transfer of the interests in Susquehanna SES to PPL Susquehanna as previously described herein, PPL Susquehanna shall provide to the Director of the Office of Nuclear Reactor Regulation satisfactory documentary evidence that PPL Susquehanna has obtained the appropriate amount of insurance required of licensees under 10 CFR Part 140 of the Commission's regulations.

5. After receipt of all required regulatory approvals of the subject transfer, PP&L, Inc., shall inform the Director of the Office of Nuclear Reactor Regulation in writing of such receipt, and of the date of closing of the transfer no later than 7 business days prior to the date of closing. Should the transfer not be completed by June 1, 2001, this Order shall become null and void, provided, however, on application and for good cause shown, such date may be extended.

It is further ordered that, consistent with 10 CFR 2.1315(b), license amendments for Susquehanna SES that make changes, as indicated in Enclosure 2 to the cover letter forwarding this Order, to conform the licenses to reflect the subject license transfers are approved. Such amendments shall be issued and made effective at the time the proposed license transfers are completed.

This Order is effective upon issuance.

For further details with respect to this Order, see the initial transfer application and request for conforming amendments dated December 15, 1999, supplements dated February 7, March 24, April 28, May 4, and May 30, 2000, and the safety evaluation dated June 6, 2000, which are available for public inspection at the Commission's Public Document Room, the Gelman Building, 2120 L Street, NW., Washington, DC. Publically available records will be accessible electronically from the ADAMS Public Library component on the NRC Web site, http://www.nrc.gov (the Electronic Reading Room).

Dated at Rockville, Maryland, this 6th day of June 2000.
For the Nuclear Regulatory Commission.
Samuel J. Collins,
Director, Office of Nuclear Reactor Regulation.

[FR Doc. 00-15002 Filed 6-13-00; 8:45 am]

BILLING CODE 7590-01-P